DEPARTMENT OF DEFENSE

Department of the Navy

Board of Visitors, Marine Corps University; Notice of Federal Advisory Committee Meeting

AGENCY: Department of the Navy (DoN), Department of Defense (DoD).

ACTION: Notice of open meeting.

SUMMARY: The Board of Visitors of the Marine Corps University (BOV MCU) will meet to review, develop and provide recommendations on all aspects of the academic and administrative policies of the University; examine all aspects of professional military education operations; and provide such oversight and advice, as is necessary, to facilitate high educational standards and cost effective operations. The Board will be focusing primarily on the internal procedures of Marine Corps University.

DATES: The meeting will be held on Monday, 18 September 2023, from 8:00 a.m. to 4:30 p.m. and 19 September from 08:30 a.m. to 12:00 p.m. Pacific Time Zone.

ADDRESSES: The meeting will be held at Camp Pendleton, California. The address is: Education Center, Building 23195, Marine Corps Air Station, Camp Pendleton, CA 92055. All sessions of the meeting will be open to the public via

Microsoft Teams: https://www.microsoft.com/en-us/microsoft-teams/join-a-meeting?rtc=1.

Meeting ID: 257 829 522 460.

Passcode: nTQqLr.

Or call in (audio only) +1 323-792-6328, United States, Los Angeles.

Phone Conference ID: 979 155 738#.

FOR FURTHER INFORMATION CONTACT: Dr. Kim Florich, Director of Faculty Development and Outreach, Marine Corps University Board of Visitors, 2076 South Street, Quantico, Virginia 22134, telephone number 703-432-4837.

SUPPLEMENTARY INFORMATION:

Written Comments and Statements: Pursuant to section 10(a)(3) of the FACA and 41 CFR 102-3.105(j) and 102-3.140, interested persons may submit a written statement for consideration at any time, but should be received by the Designated Federal Officer at least 5 business days prior to the meeting date so that the comments may be made available to the Board for their consideration prior to the meeting. Written statements should be submitted via email to: Kimberly.florich@usmcu.edu. Please note that since the Board operates under the provisions of the FACA, as amended, all submitted comments and public presentations may be treated as public documents and may be made available for public inspection, including, but not limited to, being posted on the board website.

Dated: August 30, 2023.
J.E. Koningisor,
Lieutenant Commander, Judge Advocate General's Corps, U.S. Navy, Federal Register Liaison Officer.

[FR Doc. 2023-19136 Filed 9-5-23; 8:45 am]

BILLING CODE 3810-FF-P